NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 23, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (N1-462-01-1, 5 items, 5 temporary items). Records relating to system testing for Y2K compliance. Included are test scripts, test results, and minutes of meetings.

2. Department of Housing and Urban Development, Office of Intergovernmental Relations (N1-207-01-1, 12 items, 10 temporary items). Subject files, records relating to trips taken by the Deputy Assistant Secretary, and correspondence with Federal, state, and local government officials. Also included are electronic copies of documents created using electronic mail and word processing and office web site records containing such information as calendars of events, telephone directories, and copies of congressional testimony. Recordkeeping copies of briefing materials prepared for the Secretary and others and files on agency partnerships with selected cities and states are proposed for permanent retention.

3. Department of Justice, Bureau of Prisons (N1-129-00-12, 4 items, 4 temporary items). Records accumulated by Regional Directors relating to such matters as strategic planning, emergency assistance, personnel, activities at individual facilities, program reviews, indoor air quality, and training. Also included are electronic copies of documents created using electronic mail and word processing.

4. Department of Justice, Bureau of Prisons (N1-129-00-13, 2 items, 2 temporary items). Records of the Regional Counsel relating to community service projects undertaken with such agencies and organizations as the National Park Service, the U.S. Army Corps of Engineers, and local hospitals. Also included are electronic copies of documents created using electronic mail and word processing.

5. Department of Justice, Bureau of Prisons (N1-129-00-14, 5 items, 5 temporary items). Records accumulated by regional Inmate Education Administrators relating to such matters as recreation programs, educational facilities, professional organizations, career counseling, budget, and enrollment in GED classes. Included are electronic copies of documents created using electronic mail and word processing.

6. Department of Justice, Bureau of Prisons (N1-129-00-15, 2 items, 2 temporary items). Records accumulated by Health Systems Administrators in regional offices relating to the operation and administration of institutional medical facilities. Included are correspondence, memoranda, reports, notifications, requests, and electronic copies of documents created using electronic mail and word processing.

7. Department of Justice, Bureau of Prisons (N1-129-00-16, 6 items, 6 temporary items). Records maintained in paper and electronic media accumulated by Food Services Administrators in regional offices. Included are menus and plans, monthly nutrition reports, program reviews, staff meeting minutes, staff rosters, and electronic copies of documents created using electronic mail and word processing.

8. Department of Justice, Bureau of Prisons (N1-129-00-17, 4 items, 4 temporary items). Records accumulated by Mechanical Services and Facilities Administrators in regional offices. Records pertain to inspections, physical plant maintenance, and related matters. Included are correspondence, memoranda, reports, background files, and electronic copies of documents created using electronic mail and word processing.

9. Department of Justice, Bureau of Prisons (N1-129-00-18, 6 items, 6 temporary items). Records accumulated by regional Community Corrections Administrators relating to such matters as the location of individual inmates, timely admittance and release, accurate sentence computation, and statistical reporting. Also included are electronic copies of documents created using electronic mail and word processing.

10. Department of Justice, Bureau of Prisons (N1-129-00-19, 5 items, 5 temporary items). Administrative records common to regional offices. Included are such records as correspondence with inmates, responses to letters from Members of Congress concerning the status of inmates, files pertaining to assisting the staffs of institutions, and electronic copies of documents created using electronic mail and word processing.

11. Department of Justice, Bureau of Prisons (N1-129-00-20, 6 items, 6 temporary items). Records accumulated by regional Correctional Services Administrators relating to such matters as inmate transfers, day-to-day activities at correctional institutions, and the work of special investigative supervisors and special operations response teams. Also included are electronic copies of documents created using electronic mail and word processing.

12. Department of Justice, Bureau of Prisons (N1-129-01-3, 4 items, 4 temporary items). Records accumulated by the Safety Section, including life safety surveys, a breathing apparatus tracking system, subject files pertaining to such matters as workmen's compensation litigation and inmate injuries, and electronic copies of documents created using electronic mail and word processing.

13. Department of Justice, Bureau of Prisons (N1-129-01-4, 6 items, 6 temporary items). Records of the Quality Assurance Section pertaining to the quality of medical care at agency facilities. Records relate to such matters as the credentials of medical personnel, pre-certification of requests for non-emergency hospitalization, reviews of the circumstances surrounding inmate deaths, the accreditation of medical facilities, and the review of medical problems and issues at facilities. Electronic copies of documents created using electronic mail and word processing are also included.

14. Department of Justice, Bureau of Prisons (N1-129-01-5, 8 items, 8 temporary items). Records accumulated by the Personnel Management and Recruitment Section. Included are such records as working copies of personnel files, monthly staffing reports, health professional shortage area files, National Health Service Corps files, physicians' comparability allowance files, records relating to recruitment trips, an applicant/vacancy tracking system, and electronic copies of documents created using electronic mail and word processing.

15. Department of Justice, Bureau of Prisons (N1-129-01-6, 6 items, 6 temporary items). Records accumulated by the Medical Designations Section relating to determining medical needs of inmates with conditions requiring special treatment, including the identification of inmates with needs that cannot be addressed at the correctional institution. Electronic copies of documents created using electronic mail and word processing are included.

16. Department of Justice, Bureau of Prisons (N1-129-01-7, 7 items, 7 temporary items). Records accumulated by the Food Services Section maintained in paper or electronic format. Included are such records as 35-day master cycle menus, monthly nutrition reports, monthly staff meeting minutes, staff rosters, program reviews, and electronic copies of documents created using electronic mail and word processing.

17. Department of Justice, Bureau of Prisons (N1-129-01-8, 4 items, 4 temporary items). Records accumulated by the Health Promotion and Disease Prevention Section. Included are such records as subject files, policy files, health clinic administrative files, and electronic copies of documents created using electronic mail and word processing.

18. Department of Justice, Bureau of Prisons (N1-129-01-9, 2 items, 2 temporary items). Records accumulated by the Financial Management Section of the Health Services Division pertaining to fitness center applications. Included are such records as medical histories of applicants, liability waivers, and electronic copies of documents created using electronic mail and word processing.

19. Department of Justice, Bureau of Prisons (N1-129-01-10, 2 items, 2 temporary items). Records accumulated by the Drug Free Workplace Office relating in large part to the administration of drug tests by contractors. Electronic copies of documents created using electronic mail and word processing are included.

20. Department of Justice, Bureau of Prisons (N1-129-01-11, 7 items, 7 temporary items). Records accumulated by the Office of the Assistant Director of the Health Services Division. Included are such records as controlled correspondence, working copies of litigation case files, files relating to medical activities in facilities, subject files, chronological files, and electronic copies of documents created using electronic mail and word processing.

21. Department of the Treasury, Bureau of the Public Debt (N1-53-01-1, 23 items, 23 temporary items). Files accumulated by the Savings Bond Operations Office including such records as redemption tables, adjustment advice forms, and summary tax reporting information for various types of savings bonds. Also included are inputs and outputs from two previously scheduled electronic systems and electronic copies of documents created using electronic mail and word processing.

22. Department of the Treasury, Bureau of the Public Debt (N1-53-01-4, 13 items, 13 temporary items). Files accumulated by the Savings Bond Operations Office including such records as tables of redemption values, logs, and inventory reports used in the reconciliation of issued savings bonds. The schedule also proposes increases in the retention periods of procurement records relating to savings bond stock paper and a special study concerning the consolidation of bond processing centers. Also included are electronic copies of documents created using electronic mail and word processing.

23. Department of the Treasury, United States Mint (N1-104-00-4, 2 items, 1 temporary item). Electronic versions of architectural and engineering drawings of United States Mint facilities produced using computer assisted design. Paper copies of the drawings are proposed for permanent retention.

24. Federal Retirement Thrift Investment Board, Office of Automated Services (N1-474-01-1, 2 items, 2 temporary items). Feedback and utilization statistics relating to the agency web site and electronic copies of documents created using electronic mail and word processing that relate to programs and activities of the Office of Automated Services.

25. National Archives and Records Administration, Office of the Federal Register (N1-64-01-1, 4 items, 4 temporary items). Legal documents and related materials received but not filed for publication or withdrawn from publication and not retrieved by the issuing agency. This schedule also decreases the retention period for rules, proposed rules, and document control files predating 1979, which were previously approved for disposal.

26. National Aeronautics and Space Administration (N1-255-99-4, 18 items, 7 temporary items). Records accumulated by the National Aeronautics and Space Administration from 1959 to 1993, including real property reports to the General Services Administration, background information pertaining to construction projects, public opinion mail, and contracts and other administrative files pertaining to exhibits. Proposed for permanent retention are files relating to such matters as agency facilities, research activities, financial matters, and the activities of committees and boards.

27. National Aeronautics and Space Administration, Agency-wide (N1-255-00-3, 41 items, 37 temporary items). Case files and other records relating to investigations, inspections, assessments, and audits. Also included are the Inspector General's case file tracking system and electronic copies of documents created using electronic mail and word processing. Proposed for permanent retention are recordkeeping copies of policy and procedure files, semi-annual reports to Congress, and significant investigative and inspection case files.

28. Nuclear Regulatory Commission, Office of Investigations (N1-431-00-11), 3 items, 3 temporary items). Records relating to the use of confidential sources in investigations. Included are such records as logs, reports, debriefings, and electronic copies of documents created using electronic mail and word processing.

29. Office of Government Ethics, Office of General Counsel and Legal Policy (N1-522-01-1, 1 item, 1 temporary item). Records relating to the issuance of waivers and other ethics determinations in response to submissions by Federal agencies.

Dated: March 1, 2001.
Howard P. Lowell,
Acting Assistant Archivist for Record Services—Washington, DC.

[FR Doc. 01-5619 Filed 3-7-01; 8:45 am]

BILLING CODE 7515-01-P